DEPARTMENT OF THE INTERIOR

National Park Service

[NPS-WASO-NAGPRA-NPS0039850; PPWOCRADN0-PCU00RP14.R50000]

Notice of Intended Repatriation: University of California, Riverside, Riverside, CA

AGENCY: National Park Service, Interior.

ACTION: Notice.

SUMMARY: In accordance with the Native American Graves Protection and Repatriation Act (NAGPRA), the University of California, Riverside intends to repatriate certain cultural items that meet the definition of objects of cultural patrimony and that have a cultural affiliation with the Indian Tribes or Native Hawaiian organizations in this notice.

DATES: Repatriation of the cultural items in this notice may occur on or after May 5, 2025.

ADDRESSES: Megan Murphy, University of California, Riverside, 900 University Avenue, Riverside, CA 92517-5900, telephone (951) 827-6349, email megan.murphy@ucr.edu.

SUPPLEMENTARY INFORMATION: This notice is published as part of the National Park Service's administrative responsibilities under NAGPRA. The determinations in this notice are the sole responsibility of the University of California, Riverside, and additional information on the determinations in this notice, including the results of consultation, can be found in the summary or related records. The National Park Service is not responsible for the determinations in this notice.

Abstract of Information Available

A total of eight cultural items have been requested for repatriation. The eight objects of cultural patrimony are six lots of charcoal, one lot of soil samples, and one lot of ceramics.

In 1979, Stanley Berryman submitted three charcoal samples to the University of California, Riverside radiocarbon dating laboratory from archaeological site CA-SDI-5344 (SDM-W-1583). The samples dated to about A.D. 1100 and were associated with lithic debitage and marine shell. No other items were collected from the site and no known archaeological collections from the site exist at other institutions.

In 1979, Keith Polan submitted three charcoal samples and one soil sample to the University of California, Riverside radiocarbon dating laboratory from archaeological site CA-SDI-5669 in the city of Santee, San Diego County. The site was described as a village site with habitation debris. Objects removed from the site included lithics, pottery, shell beads, stone beads, bone awls, arrow shaft straightener, quartz crystals, metates and manos, pendants, clay pipes, animal bone, fire-affected rock, charcoal, and historic items. UCR NAGPRA Program staff attempted to locate the collection associated with the 1979 project but were unable to do so.

In 1975, Charlotte McGowan submitted one charcoal sample to the University of California, Riverside radiocarbon dating laboratory from archaeological site CA-SDI-12809. The sample dates to about 320 +/− 50 years before present. McGowan described the site as an extensive village site, many hearths noted on surface. Objects reported include lithic scatters, fire-affected rock, ground stone tools, ceramics, steatite arrow-shaft straighteners, shell beads, bone tools, shelf scatter and faunal scatter. UCR NAGPRA Program staff attempted to locate the collection associated with the 1975 project but were unable to do so.

In 2024, the University of California, Riverside NAGPRA Program staff discovered a bag of ceramic sherds in UCR's archaeological collections labelled, “ceramic sherds, San Diego co.”. The sherds are believed to be related to the work of retired archaeology professor Philip Wilke.

Determinations

The University of California, Riverside has determined that:

• The eight objects of cultural patrimony described in this notice have ongoing historical, traditional, or cultural importance central to the Native American group, including any constituent sub-group (such as a band, clan, lineage, ceremonial society, or other subdivision), according to the Native American traditional knowledge of an Indian Tribe or Native Hawaiian organization.

• There is a reasonable connection between the cultural items described in this notice and the Campo Band of Diegueno Mission Indians of the Campo Indian Reservation, California; Capitan Grande Band of Diegueno Mission Indians of California (Barona Group of Capitan Grande Band of Mission Indians of the Barona Reservation, California; Viejas (Baron Long) Group of Capitan Grande Band of Mission Indians of the Viejas Reservation, California); Ewiiaapaayp Band of Kumeyaay Indians, California; Iipay Nation of Santa Ysabel, California; Inaja Band of Diegueno Mission Indians of the Inaja and Cosmit Reservation, California; Jamul Indian Village of California; La Posta Band of Diegueno Mission Indians of the La Posta Indian Reservation, California; Manzanita Band of Diegueno Mission Indians of the Manzanita Reservation, California; Mesa Grande Band of Diegueno Mission Indians of the Mesa Grande Reservation, California; San Pasqual Band of Diegueno Mission Indians of California; and the Sycuan Band of the Kumeyaay Nation.

Requests for Repatriation

Additional, written requests for repatriation of the cultural items in this notice must be sent to the authorized representative identified in this notice under ADDRESSES. Requests for repatriation may be submitted by any lineal descendant, Indian Tribe, or Native Hawaiian organization not identified in this notice who shows, by a preponderance of the evidence, that the requestor is a lineal descendant or a culturally affiliated Indian Tribe or Native Hawaiian organization.

Repatriation of the cultural items in this notice to a requestor may occur on or after May 5, 2025. If competing requests for repatriation are received, the University of California, Riverside must determine the most appropriate requestor prior to repatriation. Requests for joint repatriation of the cultural items are considered a single request and not competing requests. The University of California, Riverside is responsible for sending a copy of this notice to the Indian Tribes and Native Hawaiian organizations identified in this notice and to any other consulting parties.

Authority: Native American Graves Protection and Repatriation Act, 25 U.S.C. 3004 and the implementing regulations, 43 CFR 10.9.

Dated: March 26, 2025.
Melanie O'Brien,
Manager, National NAGPRA Program.

[FR Doc. 2025-05818 Filed 4-3-25; 8:45 am]

BILLING CODE 4312-52-P